DEPARTMENT OF THE INTERIOR

Geological Survey

Bird Banding Laboratory Advisory Committee

AGENCY: Geological Survey, Interior.

ACTION: Notice of meeting.

SUMMARY: The inaugural meeting of the Advisory Committee on the Bird Banding Laboratory (Committee) will be November 29-30, 2005, from 8:30 a.m. to 4:30 p.m. each day at the U.S. Geological Survey's (USGS) Patuxent Wildlife Research Center, 11510 American Holy Drive, Laurel, Maryland 20708-4017. The meeting will take place in the conference room of the Gabrielson Building. A map and directions to the Center may be found at http://www.pwrc.usgs.gov/aboutous/direct.cfm. The purpose of the Advisory Committee, which is co-chaired by the USGS and the U.S. Fish and Wildlife Service, is to represent the interests of the bird banding community, including both game and non-game and non-game birds, in advising the U.S. Department of the Interior, USGS, on current and future management of the Bird Banding Laboratory. The agenda for the inaugural meeting includes a tour of the Bird Banding Laboratory to familiarize members of the Committee with its operations, functions, and key personnel. In addition, the Committee will identify, prioritize, and begin discussions of the important issues it will address over the two-year period of its current Charter (May 2005-May 2007).

The meeting is open to all members of the interested public; however, it will be temporarily closed to the public on November 29 during the Committee tour due to space limitations at the Laboratory. Time on the agenda has been reserved in the afternoon of November 30 for the Committee to receive verbal comments (limited to 5 minutes per person) from the public. To speak before the Committee you must register in advance with Mr. Daniel James (see contact information below), the USGS Designated Federal Official for the Committee.

The Patuxent Wildlife Research Center is a gated, secure federal installation with no general public access. You must register with Patuxent personnel in advance of the Committee meeting dates to ensure that you are permitted access to the Center when you arrive. Please contact Ms. Regina Lanning, the Center's Communication Assistant, telephone: (301) 497-5509; e-mail: regina_lanning@usgs.gov, to inform her that you will be attending the BBL Advisory Committee Meeting, and provide her with the following information: Full name (for each person if more than one), Company name (if applicable), Vehicle description, Approximate time of arrival dates: November 29-30, 2005.

FOR FURTHER INFORMATION CONTACT: Daniel L. James, the Committee Designated Federal Official (DFO), 12201 Sunrise Valley Drive, MS 301, Reston, Virginia 20192; 703-648-4253, e-mail: dan_james@usgs.gov.

Dated: October 31, 2005.
Susan D. Haseltine,
Associate Director for Biology.

[FR Doc. 05-22010 Filed 11-3-05; 8:45 am]

BILLING CODE 4311-AM-M